DEPARTMENT OF THE TREASURY

Bureau of Alcohol, Tobacco and Firearms

27 CFR Part 7

[Notice No. 952; Re: Notice No. 946]

RIN 1512-AC10

Labeling and Advertising of Malt Beverages (2000R-107P)

AGENCY: Bureau of Alcohol, Tobacco and Firearms (ATF), Treasury.

ACTION: Proposed rule; extension of comment period.

SUMMARY: This notice extends the comment period for Notice No. 946, a notice of proposed rulemaking published in the Federal Register on June 27, 2002, for an additional 30 days. The proposed rule revises the regulations regarding the labeling and advertising of malt beverages in accordance with plain language principles. These changes also incorporate minor technical amendments. There are no changes in the requirements of the existing regulations. We are making this change in order to more clearly communicate the regulations' existing requirements.

DATES: We must receive your comments on or before September 25, 2002.

ADDRESSES: Send written comments to: Chief, Regulations Division, Notice No. 946, Bureau of Alcohol, Tobacco and Firearms, P.O. Box 50221, Washington, DC 20091-0221.

See the Public Participation section below for information on alternative methods of commenting, and for information on how and where to review Notice No. 946 and the comments received in response to that notice.

FOR FURTHER INFORMATION CONTACT: Charles N. Bacon, Program Manager, Bureau of Alcohol, Tobacco and Firearms, 10 Causeway Street, Room 701, Boston, MA 02222; telephone 617-557-1323.

SUPPLEMENTARY INFORMATION:

Background

The Bureau of Alcohol, Tobacco and Firearms (ATF) published Notice No. 946 in the Federal Register on June 27, 2002, announcing the proposed plain language revision of 27 CFR Part 7, Labeling and Advertising of Malt Beverages. Please see Notice No. 946 at 67 FR 43496 for a discussion of the proposed revisions and for the proposed rule language.

As the proposed revision only adopts the plain language style, there is no change in the intent of the regulations from the existing part 7. There are no changes to the authority, scope, or effect of the regulations. The authority for the regulations in part 7 remains 27 U.S.C. 205.

We issued the original requirements in part 7 after an opportunity for notice and comment during the rulemaking process. Since we are proposing to make only stylistic changes and minor technical amendments, we are limiting comments on the proposed rule to the plain language issue.

Public Participation

We request comments from all interested persons. We will carefully consider all comments we receive on or before September 25, 2002. We will give the same consideration to comments we receive after that date if it is practical to do so, but we can give assurance of consideration only to comments we receive on or before September 25, 2002.

Comments Limited to Plain Language Issue

Because we only propose to amend these regulations to conform to the plain language style, we are limiting comments to the effects of this change in the regulations' language. Accordingly, comments should be limited to the following questions:

• Does this language have the same effect as the old regulations?

• Does the plain language format effect the operation of the regulations?

• Is this new style helpful or useful?

We will not consider in this rulemaking any comments that go beyond this scope.

Will ATF Treat My Comments as Confidential?

We will not recognize any material in comments as confidential, and your comments may be disclosed to the public. You should not include any material that you consider to be confidential or inappropriate for public disclosure. We may disclose the name of any person submitting a comment.

How May I Submit Comments?

By Mail: You may send written comments by U.S. mail to the address shown above in the ADDRESSES section of this notice.

By Fax: You may submit comments by facsimile transmission to (202) 927-8602. Facsimile comments must reference Notice No. 946 and must:

• Be legible when printed on 8½″ x 11″ paper;

• Contain a written signature; and

• Be five pages or less in length (to ensure access to our equipment).

We will not acknowledge receipt of FAX transmittals. We will treat facsimile comments as originals.

By E-Mail: You may submit comments of any length by electronic mail to nprm@atfhq.atf.treas.gov. Electronic mail comments must include:

• A reference to Notice No. 946;

• Your e-mail address; and

• Your name and post office address.

We will not acknowledge receipt of e-mail comments. We will treat e-mail comments as originals.

By On-line Form: You may also submit comments electronically using the comment form provided with the online copy of Notice No. 946 on the ATF Internet web site at http://www.atf.treas.gov/alcohol/rules/index.htm. We will treat comments submitted via the web site as originals.

How Does ATF Use the Comments?

We will summarize and discuss pertinent comments in the preamble to any subsequent notices or the final rule published as a result of the comments. We will not acknowledge receipt of comments or reply to individual comments.

Can I Review Comments Received?

You may view copies of the comments on Notice No. 946 by appointment at the ATF Reference Library, Room 6480, 650 Massachusetts Avenue, NW., Washington, DC 20226, telephone (202) 927-7890. You may request copies of the comments (at 20 cents per page) by writing to the ATF Reference Librarian at the address shown above.

For the convenience of the public, ATF will post comments received in response to Notice No. 946 on the ATF web site. All comments posted on our web site will show the name of the commenter, but will have street addresses, telephone numbers, and e-mail addresses removed. We may also omit voluminous attachments or material that we do not consider suitable for posting. In all cases, the full comment will be available in the ATF library as noted above. To access online copies of the comments on this rulemaking, visit http://www.atf.treas.gov/, select “Regulations,” and then “Notices of proposed rulemaking (Alcohol).” Then click on the “View Comments” button for Notice No. 946.

Drafting Information

The principal author of Notice No. 946 is William H. Foster, and the author of this notice is Michael D. Hoover, Bureau of Alcohol, Tobacco and Firearms.

List of Subjects in 27 CFR Part 7

Advertising, Authority delegations, Beer, Consumer protection, Customs duties and inspection, Imports, Labeling, Packaging and containers, Reporting and recordkeeping requirements.

Authority and Issuance

This notice is issued under the authority contained in 27 U.S.C. 205.

Signed: August 16, 2002.
Thomas R. Crone,
Chief, Regulations Division.

[FR Doc. 02-21455 Filed 8-21-02; 8:45 am]

BILLING CODE 4810-31-P